DEPARTMENT OF JUSTICE

Notice of Lodging of Proposed Consent Decree Under the Comprehensive Environmental Response, Compensation, and Liability Act

On October 24, 2022, the Department of Justice lodged a proposed Consent Decree with the United States District Court for the Northern District of Indiana in the lawsuit entitled United States and State of Indiana v. Flexsteel Industries, Inc., Civil Action No. 3:22-cv-00893 [Docket No. 2].

The proposed Consent Decree resolves the alleged liability of Flexsteel Industries, Inc. (“Flexsteel”) at the Lane Street Ground Water Contamination Superfund Site in Elkhart, Indiana (the “Site”) under the Comprehensive Environmental Response, Compensation, and Liability Act (CERCLA), 42 U.S.C. 9606, 9607, and 9613, and Ind. Code §§ 13-25-4-9, 13-25-4-10, and 13-25-4-8, asserted in the Complaint, for payment by Flexsteel of $9.8 million. In return, the United States and State of Indiana agree not to sue Flexsteel under sections 106 and 107 of CERCLA or Ind. Code §§ 13-25-4-8 through IC 13-25-4-10 with respect to the Site.

The publication of this notice opens a period for public comment on the proposed Consent Decree. Comments should be addressed to the Assistant Attorney General, Environment and Natural Resources Division, and should refer to United States and State of Indiana v. Flexsteel Industries, Inc, D.J. Ref. No. 90-11-3-11767. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $4.75 (25 cents per page reproduction cost) payable to the United States Treasury.

Susan M. Akers,
Deputy Section Chief, Environmental Enforcement Section, Environment and Natural Resources Division.

[FR Doc. 2022-23568 Filed 10-28-22; 8:45 am]

BILLING CODE P